FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011075-076.

Title: Central America Discussion Agreement.

Parties: Crowley Latin America Services, LLC.; Dole Ocean Cargo Express; Great White Fleet Liner Service Ltd; King Ocean Services Limited; and Seaboard Marine, Ltd.

Filing Party: Wayne R. Rohde, Esq.; Cozen O'Connor; 1627 I Street NW., Suite 1100; Washington, DC 20006-4007.

Synopsis: The amendment corrects the address of Great White Fleet Liner Service Ltd.

Agreement No.: 012037-004.

Title: Maersk Line/CMA CGM TA3 Space Charter Agreement.

Parties: A.P. Moeller-Maersk A/S and CMA CGM S.A.

Filing Party: Wayne R. Rohde, Esq.; Cozen O'Connor; 1627 I Street NW., Suite 1100; Washington, DC 20006-4007.

Synopsis: The amendment would increase the amount of space being chartered to CMA CGM by Maersk Line under the agreement.

Agreement No.: 012067-008.

Title: U.S. Supplemental Agreement to HLC Agreement.

Parties: BBC Chartering & Logistics GmbH & Co. KG; Beluga Chartering GmbH; Chipolbrok; Clipper Project Ltd.; Hyndai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment would add Hanssy Shipping Pte. Ltd. as a party to the U.S. Agreement and to the worldwide Agreement of the Heavy Lift Club.

Agreement No.: 012103-002.

Title: CMA CGM/CSAV Victory Bridge Vessel Sharing Agreement.

Parties: CMA CGM, S.A. and Compania Sud American de Vapores S.A.

Filing Party: Draughn Arbona, Esq.; Associate Counsel & Environmental Officer; CMA CGM (America) LLC; 5701 Lake Wright Drive; Norfolk, VA 23502.

Synopsis: The amendment increases CMA CGM's slot allocation via implementing a structural purchase.

Agreement No.: 012118-002.

Title: CMA CGM/OOCL Victory Bridge Space Charter Agreement.

Parties: CMA CGM S.A. and Orient Overseas Container Line Limited.

Filing Party: Draughn Arbona, Esq.; Associate Counsel & Environmental Officer; CMA CGM (America) LLC; 5701 Lake Wright Drive; Norfolk, VA 23502.

Synopsis: The amendment decreases the amount of space purchased by OOCL from CMA CGM.

Agreement No.: 012182.

Title: Hyundai Glovis/Eukor Car Carriers Inc. Space Charter Agreement.

Parties: Hyundai Glovis Co. Ltd. and Eukor Car Carriers Inc.

Filing Party: Sungu Kim; Lee, Hong, Degerman, Kang & Waimey; 1920 Main Street, Suite 900; Irvine, California 92614.

Synopsis: The agreement authorizes Hyundai Glovis and Eukor to charter space to each other in the trade between South Korea and the U.S. East and West Coasts.

Agreement No.: 012183

Title: CSAV/SC Line Space Charter Agreement.

Parties: Compania Sud Americana de Vapores S.A. and SC Line S.A.

Filing Party: Walter H. Lion, McLaughlin & Stern, LLP; 260 Madison Avenue, New York, NY 10016.

Synopsis: The agreement authorizes CSAV and SC Line to charter space to each other on an ad hoc basis in the trade between Jacksonville and Port Everglades, FL, on the one hand, and Colombia, Ecuador, Peru, and Chile, on the other hand.

Agreement No.: 201112-004.

Title: Lease and Operating Agreement between Philadelphia Regional Port Authority and Kinder Morgan Liquids Terminals LLC.

Parties: Philadelphia Regional Port Authority and Kinder Morgan Liquids Terminals, LLC.

Filing Party: Paul D. Coleman, Esq.; Hoppel, Mayer & Coleman; 1050 Connecticut Ave. NW., 10th Floor; Washington, DC 20036.

Synopsis: The amendment allows for a rent supplement to pay for the fender improvements to Berth #1.

By Order of the Federal Maritime Commission.
Dated: September 14, 2012.
Karen V. Gregory,
Secretary.

[FR Doc. 2012-23145 Filed 9-18-12; 8:45 am]

BILLING CODE P